FEDERAL MARITIME COMMISSION

Ocean Transportation Intermediary License Revocations

The Commission gives notice that the following Ocean Transportation Intermediary licenses have been revoked pursuant to section 19 of the Shipping Act of 1984 (46 U.S.C. 40101) effective on the date shown.

License No.: 4035F.

Name: Dynamic International Cargo Corp.

Address: 7500 NW 25th Street, Unit 7, Miami, FL 33122.

Date Revoked: February 28, 2013.

Reason: Voluntary Surrender of License.

License No.: 16044F.

Name: Atlas International Freight Forwarding (USA) Inc. dba Atlas Cargo.

Address: 6172 NW 74th Avenue, Miami, FL 33166.

Date Revoked: February 22, 2013.

Reason: Failed to maintain a valid bond.

License No.: 17641N.

Name: Best Raider Cargo Express, Ltd.

Address: 66 West Merrick Road, Valley Stream, NY 11580.

Date Revoked: February 21, 2013.

Reason: Failed to maintain a valid bond.

License No.: 18134N.

Name: KSO Container Inc.

Address: 9000 Bellanca Avenue, Suite 108, Los Angeles, CA 90045

Date Revoked: February 4, 2013.

Reason: Failed to maintain a valid bond.

License No.: 018789N.

Name: Cargo Agents, Inc.

Address: 143-30 38th Avenue, Suite 1-H, Flushing, NY 11354.

Date Revoked: December 8, 2012.

Reason: Failed to maintain a valid bond.

License No.: 019990NF.

Name: TMO Global Logistics, LLC.

Address: 200 Garrett Street, Suite M, Charlottesville, VA 22902.

Date Revoked: February 22, 2013.

Reason: Failed to maintain valid bonds.

License No.: 020526NF.

Name: Gamma International Logistics Inc. dba Logistix Container Line.

Address: 9700 NW 17th Street, Miami, FL 33172.

Date Revoked: January 29, 2013.

Reason: Failed to maintain valid bonds.

License No.: 021485N.

Name: Global Link Express Corp.

Address: 12711 NW 102nd Court, Hialeah Gardens, FL 33018

Date Revoked: February 26, 2013.

Reason: Voluntary Surrender of License.

License No.: 022088NF.

Name: CNS Logistics, Inc.

Address: 14251 East Firestone Blvd., La Mirada, CA 90638.

Dates Revoked: January 30, 2013 (022088F) & February 24, 2013 (022088N)

Reason: Failed to maintain valid bonds.

License No.: 023685N.

Name: Florida International Enterprises, Inc.

Address: 7675 NW 66th Street, Miami, FL 33166.

Date Revoked: February 18, 2013.

Reason: Failed to maintain a valid bond.

Vern W. Hill,
Director, Bureau of Certification and Licensing.

[FR Doc. 2013-06400 Filed 3-19-13; 8:45 am]

BILLING CODE 6730-01-P